DEPARTMENT OF THE TREASURY

Internal Revenue Service

26 CFR Parts 1 and 602

[TD 9549]

RIN 1545-BH28

Implementation of Form 990; Correction

AGENCY: Internal Revenue Service (IRS), Treasury.

ACTION: Correction to final regulations.

SUMMARY: This document describes a correction to final regulations (TD 9549) that implement the redesigned Form 990, “Return of Organization Exempt From Income Tax”. These regulations were published in the Federal Register on Thursday, September 8, 2011 (76 FR 55746).

DATES: This correction is effective on October 6, 2011, and is applicable on September 8, 2011.

FOR FURTHER INFORMATION CONTACT: Terri Harris, (202) 622-6070 (not a toll-free number).

SUPPLEMENTARY INFORMATION:

Background

The final regulations that are the subject of this correction are under sections 170A, 507, 509, 6033 and 6043 of the Internal Revenue Code.

Need for Correction

As published, final regulations (TD 9549) contain an error that may prove to be misleading and is in need of clarification.

Correction of Publication

Accordingly, the publication of the final regulations (TD 9549) which were the subject of FR Doc. 2011-22614 is corrected as follows:

On page 55747, column 2, in the preamble, under the paragraph heading “Computation Period for Public Support”, third paragraph of the column, line 13, the language “§ 1.170A-9(f)(9). The final regulations” is corrected to read “§ 1.170A-9T(f)(9). The final regulations”.

LaNita Van Dyke,
Chief, Publications and Regulations Branch, Legal Processing Division, Associate Chief Counsel (Procedure and Administration).

[FR Doc. 2011-25776 Filed 10-5-11; 8:45 am]

BILLING CODE 4830-01-P